DEPARTMENT OF ENERGY

Federal Energy Regulatory Commission

[CP01-426-000]

Williams Gas Pipelines Central, Inc. Notice of Request Under Blanket Authorization

August 16, 2001.

Take notice that on August 10, 2001, Williams Gas Pipelines Central, Inc. (Williams), 3800 Frederica Street, Owensboro, Kentucky 42301, filed in Docket No. CP01-426-000 a request pursuant to §§ 157.205 and 157.208 of the Commission's Regulations under the Natural Gas Act (18 CFR 157.205 and 157.208) for authorization to increase the Maximum Allowable Operating Pressure (MAOP) of approximately 3.5 miles of the Chanute 8-inch diameter lateral pipeline EP, located in Allen and Neosho Counties, Kansas, under Williams' blanket certificate issued in Docket No. CP82-479-000 pursuant to Section 7 of the Natural Gas Act, all as more fully set forth in the request which is on file with the Commission and open to public inspection. This filing may be viewed on the web at http://www.ferc.gov using the “RIMS” link, select “Docket #” from the RIMS Menu and follow the instructions (please call 202-208-2222 for assistance).

Williams proposes to increase the MAOP of approximately 3.5 miles of the Chanute lateral 8-inch diameter pipeline, EP, located in Section 32, Township 26 South, Range 18 East, in Allen County, Kansas, and Sections 5, 8, and 17, Township 27 South, Range 18 East, in Neosho County, Kansas. Williams proposes to increase the MAOP of the Chanute 8-inch pipeline from 250 psig to 703 psig in response to a request from the City of Chanute, Kansas, in order to supply gas to a new power generating facility currently under construction by the City of Chanute.

Williams indicates that it will replace a segment of approximately 325 feet of 6-inch pipeline on the Chanute line with 325 feet of 8-inch pipeline and install approximately 87 feet of 8-inch diameter to connect the existing 8-inch diameter line Ep to the 12-inch diameter line DY, which will be constructed pursuant to the provisions of § 157.208 (a) of the Commission's Regulations (18 CFR 157.208). In addition, Williams declares that a new meter station consisting of dual 4-inch turbine meters will be constructed pursuant to the provisions of Section 157.211 (a) (1) of the Commission's Regulations (18 CFR 157.211) to replace the existing Chanute North Town Border Meter Station as well as to serve the natural gas needs of the new power generating facility.

Williams asserts that the 3.5 miles of the EP line needs to be uprated to a pressure consistent with the remainder of the facilities involved in this project. Williams states that the pressure test required for the increase in MAOP will be conducted using procedures in accordance with applicable Department of Transportation (DOT) safety standards contained in Part 192 of Title 45 of the Code of Federal Regulations. Williams states that the estimated cost of the test procedure is approximately $110,000.

Williams indicates that since the pressure test will be performed using natural gas, there should be no adverse impact on the environment. Williams states that all activity related to the test procedure will be confined within Williams' permanent right-of-way. Williams asserts that all affected landowners will be notified of the proposed procedure by first class mail in accordance with § 157.203 (d) of the Commission's Regulations (18 CFR 157.203).

Williams states that it does not anticipate that ground disturbance will occur during or after the pressure test. In the event that ground disturbance should become necessary in order to make repairs or replacements to the existing pipeline, Williams asserts that it will follow the construction procedures and mitigation measures described in the Upland Erosion Control, Revegetation and Maintenance Plan, and Wetland and Waterbody Construction and Mitigation Procedures.

Any questions regarding the application should be directed to David N. Roberts, Manager of Certificates and Tariffs, Williams Gas Pipelines Central, Inc., P.O. Box 20008, Owensboro, Kentucky 42304, at (270) 688-6712.

Any person or the Commission's staff may, within 45 day after issuance of the instant notice by the Commission, file pursuant to Rule 214 of the Commission's Procedural Rules (18 CFR 385.214) a motion to intervene or notice of intervention and pursuant to § 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to Section 7 of the Natural Gas Act. Comments and protests may be filed electronically via the internet in lieu of paper. See, 18 CFR 385.2001(a)(1)(iii) and the instructions on the Commission's web site under the “e-Filing” link.

David P. Boergers,
Secretary.

[FR Doc. 01-21114 Filed 8-21-01; 8:45 am]

BILLING CODE 6717-01-P